DEPARTMENT OF COMMERCE

International Trade Administration

U.S. Department of Commerce Trade Finance Advisory Council

AGENCY: International Trade Administration, U.S. Department of Commerce.

ACTION: Notice of an open meeting.

SUMMARY: The U.S. Department of Commerce Trade Finance Advisory Council (TFAC or Council) will hold a meeting via teleconference on Thursday, April 26, 2018. The meeting is open to the public with registration instructions provided below.

DATES: Thursday, April 26, 2018, from approximately 12:00 p.m. to 2:00 p.m. Eastern Daylight Time (EDT). The deadline for members of the public to register, including requests to make comments during the meeting and for auxiliary aids, or to submit written comments for dissemination prior to the meeting, is 5:00 p.m. EDT on April 19, 2018. Members of the public are encouraged to submit registration requests and written comments via email to ensure timely receipt.

ADDRESSES: The meeting will be held by conference call. The call-in number and passcode will be provided by email to registrants. Requests to register (including for auxiliary aids) and any written comments should be submitted via email to TFAC@trade.gov, or by mail to Ericka Ukrow, Office of Finance and Insurance Industries, U.S. Department of Commerce Trade Finance Advisory Council, Room 18002, 1401 Constitution Avenue NW, Washington, DC 20230.

FOR FURTHER INFORMATION CONTACT: Ericka Ukrow, Designated Federal Officer, Office of Finance and Insurance Industries (OFII), International Trade Administration, U.S. Department of Commerce at (202) 482-0405; email: Ericka.Ukrow@trade.gov.

SUPPLEMENTARY INFORMATION:

I. Background

On July 25, 2016, the Secretary of Commerce established the TFAC pursuant to discretionary authority and in accordance with the Federal Advisory Committee Act, as amended, 5 U.S.C. App. The TFAC advises the Secretary of Commerce in identifying effective ways to help expand access to finance for U.S. exporters, especially small- and medium-sized enterprises (SMEs) and their foreign buyers. The TFAC also provides a forum to facilitate the discussion between a diverse group of stakeholders such as banks, non-bank financial institutions, other trade finance related organizations, and exporters, to gain a better understanding regarding current challenges facing U.S. exporters in accessing capital.

During the meeting on April 26, 2018, TFAC members are expected to deliberate and potentially adopt recommendations on policies and programs that can increase awareness of, and expand access to, private export financing resources for U.S. exporters. A copy of the draft recommendations can be made available upon request to Ericka Ukrow at (202) 482-0405; email: Ericka.Ukrow@trade.gov.

Public Participation

The meeting will be open to the public and will be accessible to people with disabilities.

All guests are required to register in advance by the deadline identified under the DATES caption. Requests to register (including to speak or for auxiliary aids) and any written comments should be submitted, by the registration deadline, as explained under the ADDRESSES caption. Last minute requests will be accepted, but may not be possible to fill. There will be fifteen minutes allotted for oral comments from members of the public. To accommodate as many speakers as possible, the time for public comments may be limited to three (3) minutes per person. Individuals wishing to reserve speaking time during the meeting must submit a request at the time of registration, as well as the name and address of the proposed speaker. Speakers are requested to submit a written copy of their prepared remarks by 5:00 p.m. EDT on April 19, 2018, for inclusion in the meeting records and for circulation to the members of the Council. Any member of the public may submit pertinent written comments concerning matters relevant to the TFAC's affairs at any time. Comments may be submitted to Ericka Ukrow. Comments received after the DEADLINE above will be distributed to the members but may not be considered on the call.

All comments and statements received, including attachments and other supporting materials, are part of the public record and subject to public disclosure. Comments and statements will be posted on the U.S. Department of Commerce Trade Finance Advisory Council website (http://trade.gov/TFAC) without change, including any business or personal information provided such as names, addresses, email addresses, or telephone numbers.

You should submit only information that you are prepared to have made publicly available.

II. Meeting Minutes

Copies of TFAC meeting minutes will be available within 90 days of the meeting.

Dated: April 6, 2018.
Michael Fuchs,
Trade and Project Finance Team Leader, Office of Finance and Insurance Industries.

[FR Doc. 2018-07660 Filed 4-12-18; 8:45 am]

BILLING CODE 3510-DS-P